DEPARTMENT OF ENERGY

Federal Energy Regulatory Commission

Combined Notice of Filings #1

Take notice that the Commission received the following electric corporate filings:

Docket Numbers: EC25-140-000.

Applicants: Troy ParentCo LLC, TXNM Energy Inc., Public Service Company of New Mexico, New Mexico PPA Corporation.

Description: Response to 12/23/2025, Deficiency Letter of Troy ParentCo LLC et al.

Filed Date: 1/13/26.

Accession Number: 20260113-5205.

Comment Date: 5 p.m. ET 1/23/26.

Take notice that the Commission received the following exempt wholesale generator filings:

Docket Numbers: EG26-134-000.

Applicants: Hollis Creek PV I, LLC.

Description: Hollis Creek PV I, LLC submits Notice of Self-Certification of Exempt Wholesale Generator Status.

Filed Date: 1/14/26.

Accession Number: 20260114-5104.

Comment Date: 5 p.m. ET 2/4/26.

Docket Numbers: EG26-135-000.

Applicants: Beekman PV I, LLC.

Description: Beekman PV I, LLC submits Notice of Self-Certification of Exempt Wholesale Generator Status.

Filed Date: 1/14/26.

Accession Number: 20260114-5109.

Comment Date: 5 p.m. ET 2/4/26.

Take notice that the Commission received the following electric rate filings:

Docket Numbers: ER17-1984-000.

Applicants: Highland North LLC.

Description: Report Filing: Highland North LLC Non-Material Change in Status to be effective N/A.

Filed Date: 1/12/26.

Accession Number: 20260112-5181.

Comment Date: 5 p.m. ET 2/2/26.

Docket Numbers: ER17-1988-000.

Applicants: Patton Wind Farm, LLC.

Description: Report Filing: Patton Wind Non-Material Change in Status Filing to be effective N/A.

Filed Date: 1/12/26.

Accession Number: 20260112-5182.

Comment Date: 5 p.m. ET 2/2/26.

Docket Numbers: ER22-291-001.

Applicants: PSEG Fossil LLC.

Description: Refund Report: Parkway Generation Operating LLC submits tariff filing per 35.19a(b): Refund Report to be effective N/A.

Filed Date: 1/14/26.

Accession Number: 20260114-5149.

Comment Date: 5 p.m. ET 2/4/26.

Docket Numbers: ER23-2221-000.

Applicants: Big Savage, LLC.

Description: Report Filing: Twin Ridges Non-Material Change in Status to be effective N/A.

Filed Date: 1/12/26.

Accession Number: 20260112-5184.

Comment Date: 5 p.m. ET 2/2/26.

Docket Numbers: ER25-2695-001.

Applicants: Kelso 2 Solar LLC.

Description: Supplement to 12/02/2025, Notice of Non-Material Change in Status of Kelso 2 Solar LLC.

Filed Date: 1/12/26.

Accession Number: 20260112-5260.

Comment Date: 5 p.m. ET 2/2/26.

Docket Numbers: ER26-166-002.

Applicants: UGID Broad Mountain, LLC.

Description: Tariff Amendment: UGID Broad Mountain, LLC Supplemental Response to Deficiency Notice to be effective 11/15/2025.

Filed Date: 1/14/26.

Accession Number: 20260114-5082.

Comment Date: 5 p.m. ET 2/4/26.

Docket Numbers: ER26-414-001.

Applicants: Southwest Power Pool, Inc.

Description: Tariff Amendment: Southwest Power Pool, Inc. submits tariff filing per 35.17(b): Deficiency Response—Implementation of the Consolidated Planning Process to be effective 3/1/2026.

Filed Date: 1/12/26.

Accession Number: 20260112-5212.

Comment Date: 5 p.m. ET 1/26/26.

Docket Numbers: ER26-507-001.

Applicants: Public Service Company of Colorado.

Description: Tariff Amendment: 2026-01-14 PSC-Batch of Study Cancellations-NOCs-Response to Deficiency to be effective 1/15/2026.

Filed Date: 1/14/26.

Accession Number: 20260114-5148.

Comment Date: 5 p.m. ET 2/4/26.

Docket Numbers: ER26-598-001.

Applicants: Appalachian Power Company.

Description: Tariff Amendment: APCo-Musser Power Supply Agreement Extension to be effective 3/1/2026.

Filed Date: 1/14/26.

Accession Number: 20260114-5102.

Comment Date: 5 p.m. ET 2/4/26.

Docket Numbers: ER26-1017-001.

Applicants: Pastoria Energy Facility L.L.C.

Description: Tariff Amendment: Errata to Filing of Amended and Restated Shared Facilities Agreement to be effective 1/13/2026.

Filed Date: 1/13/26.

Accession Number: 20260113-5187.

Comment Date: 5 p.m. ET 2/3/26.

Docket Numbers: ER26-1033-000.

Applicants: Southwest Power Pool, Inc.

Description: 205(d) Rate Filing: Revisions Regarding Outage Submissions to be effective 4/1/2026.

Filed Date: 1/14/26.

Accession Number: 20260114-5022.

Comment Date: 5 p.m. ET 2/4/26.

Docket Numbers: ER26-1034-000.

Applicants: Consolidated Edison Company of New York, Inc., New York Independent System Operator, Inc.

Description: 205(d) Rate Filing: New York Independent System Operator, Inc. submits tariff filing per 35.13(a)(2)(iii: NYISO-Con Edison Joint 205: Third Amended LGIA Bayonne I and II SA1668 (CEII) to be effective 12/31/2025.

Filed Date: 1/14/26.

Accession Number: 20260114-5079.

Comment Date: 5 p.m. ET 2/4/26.

Docket Numbers: ER26-1035-000.

Applicants: Viridon Midcontinent LLC.

Description: Request for Abandoned Plant Incentive Rate of Viridon Midcontinent LLC.

Filed Date: 1/14/26.

Accession Number: 20260114-5113.

Comment Date: 5 p.m. ET 2/4/26.

Docket Numbers: ER26-1036-000.

Applicants: El Paso Electric Company.

Description: 205(d) Rate Filing: Submission of Tariff Revisions to be effective 3/16/2026.

Filed Date: 1/14/26.

Accession Number: 20260114-5111.

Comment Date: 5 p.m. ET 2/4/26.

Docket Numbers: ER26-1037-000.

Applicants: Consolidated Edison Company of New York, Inc., New York Independent System Operator, Inc.

Description: 205(d) Rate Filing: New York Independent System Operator, Inc. submits tariff filing per 35.13(a)(2)(iii: NYISO-Con Edison Joint 205: LGIA Bayonne III SA2938 (CEII) to be effective 12/31/2025.

Filed Date: 1/14/26.

Accession Number: 20260114-5114.

Comment Date: 5 p.m. ET 2/4/26.

Docket Numbers: ER26-1038-000.

Applicants: PacifiCorp.

Description: 205(d) Rate Filing: Basin Electric NITSA Rev 4 (SA No. 505) to be effective 1/1/2026.

Filed Date: 1/14/26.

Accession Number: 20260114-5145.

Comment Date: 5 p.m. ET 2/4/26.

Docket Numbers: ER26-1039-000.

Applicants: AEP Texas Inc.

Description: 205(d) Rate Filing: AEPTX-RWE Clean Energy Development Generation Interconnection Agreement to be effective 12/19/2025.

Filed Date: 1/14/26.

Accession Number: 20260114-5151.

Comment Date: 5 p.m. ET 2/4/26.

Docket Numbers: ER26-1040-000.

Applicants: Midcontinent Independent System Operator, Inc.

Description: Compliance filing: 2026-01-14_Att FF MHVDC Compliance (EL22-83-000) to be effective 3/16/2026.

Filed Date: 1/14/26.

Accession Number: 20260114-5154.

Comment Date: 5 p.m. ET 2/4/26.

Docket Numbers: ER26-1041-000.

Applicants: PJM Interconnection, L.L.C.

Description: Tariff Amendment: Notice of Cancellation of CSA, SA No. 5367; Queue No. AB2-161 to be effective 3/6/2025.

Filed Date: 1/14/26.

Accession Number: 20260114-5155.

Comment Date: 5 p.m. ET 2/4/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 14, 2026.
Carlos D. Clay,
Deputy Secretary.

[FR Doc. 2026-00937 Filed 1-16-26; 8:45 am]

BILLING CODE 6717-01-P